DEPARTMENT OF ENERGY

Federal Energy Regulatory Commission

[IC06-716-001, FERC-716]

Commission Information Collection Activities, Proposed Collection; Comment Request; Extension

April 5, 2006.

AGENCY: Federal Energy Regulatory Commission.

ACTION: Notice.

SUMMARY: In compliance with the requirements of section 3507 of the Paperwork Reduction Act of 1995, 44 U.S.C. 3507, the Federal Energy Regulatory Commission (Commission) has submitted the information collection described below to the Office of Management and Budget (OMB) for review and extension of this information collection requirement. Any interested person may file comments directly with OMB and should address a copy of those comments to the Commission as explained below. The Commission received no comments in response to an earlier Federal Register notice of January 19, 2005 (71 FR 3064-3065) and has made this notation in its submission to OMB.

DATES: Comments on the collection of information are due by May 18, 2006.

ADDRESSES: Address comments on the collection of information to the Office of Management and Budget, Office of Information and Regulatory Affairs, Attention: Federal Energy Regulatory Commission Desk Officer. Comments to OMB should be filed electronically, c/o oira_submission@omb.eop.gov and include the OMB Control No. as a point of reference. The Desk Officer may be reached by telephone at 202-395-4650. A copy of the comments should also be sent to the Federal Energy Regulatory Commission, Office of the Executive Director, ED-34; Attention: Michael Miller, 888 First Street, NE., Washington, DC 20426. Comments may be filed either in paper format or electronically. Those persons filing electronically do not need to make a paper filing. For paper filings, the original and 14 copies of such comments should be submitted to the Secretary of the Commission, Federal Energy Regulatory Commission, 888 First Street, NE., Washington, DC 20426 and should refer to Docket No. IC06-716-001.

Documents filed electronically via the Internet must be prepared in WordPerfect, MS Word, Portable Document Format, or ASCII format. To file the document, access the Commission's website at http://www.ferc.gov and click on “Make an E-Filing,” and then follow the instructions for each screen. First time users will have to establish a user name and password. The Commission will send an automatic acknowledgement to the sender's e-mail address upon receipt of comments. User assistance for electronic filings is available at 202-502-8258 or by e-mail to efiling@ferc.gov. Comments should not be submitted to this e-mail address.

All comments may be viewed, printed or downloaded remotely via the Internet through FERC's homepage using the “eLibrary” link. Enter the docket number excluding the last three digits in the docket number field to access the document. For user assistance, contact FERCOnlineSupport@ferc.gov or toll-free at (866) 208-3676. or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC-716 “Good Faith Request for Transmission Service and Response by Transmitting Utility under sections 211(a) & 213(a) of the FPA” .

2. Sponsor: Federal Energy Regulatory Commission.

3. Control No.: 1902-0170.

The Commission is now requesting that OMB approve and extend the expiration date for an additional three years with no changes to the existing collection. The information is not filed with the Commission but is used in conjunction with FERC-716A which is mandatory.

4. Necessity of the Collection of Information: Submission of the information is necessary for the Commission to carry out its responsibilities in implementing the statutory provisions of sections 211 and 213 of the Federal Power Act (FPA) as amended and added by the Energy Policy Act of 1992. The information is not filed with the Commission, however, the request and response may be analyzed as a part of a section 211 proceeding. This collection of information covers the information that must be contained in the request and in the response.

The Energy Policy Act of 1992 amended section 211 of the FPA and expanded the Commission's authority to order transmission service. Under the revised section 211, the Commission may order transmission services if it finds that such action would be in the public interest, would not unreasonably impair the continued reliability of electric systems affected by the order, and would, meet the requirements of amended section 211 of the FPA.

The Commission's policy statement in Public Law 93-3, Policy Statement Regarding Good Faith Requests for Transmission Services and Responses by Transmitting Utilities under sections 211(a) and 213(a) of the Federal Power Act, as amended, implemented a data exchange between a transmission requester and a transmitting utility prior to the submission of a section 211 request with the Commission. Components of the data exchange are identified in the Code of Federal Regulations (CFR), 18 CFR 2.20. The general policy sets forth standards by which the Commission determines whether and when a valid good faith request for transmission has been made under section 211 of the FPA. In developing the standards, the Commission sought to encourage an open exchange of information with a reasonable degree of specificity and completeness between the party requesting transmission services and the transmitting utility. As a result, twelve components of a good faith estimate are identified under 18 CFR 2.20.

5. Respondent Description: The respondent universe currently comprises 8 companies (on average) subject to the Commission's jurisdiction.

6. Estimated Burden: 800 total hours, 8 respondents (average), 1 response per respondent, and 100 hours per response (average).

7. Estimated Cost Burden to respondents: 800 hours/2080 hours per years × $112,767 per year = $43,372. The cost per respondent is equal to $5,421.

Statutory Authority: Sections 211 and 213 of the Federal Power Act as amended and added by the Energy Policy Act 1992.

Magalie R. Salas,
Secretary.

[FR Doc. E6-5320 Filed 4-10-06; 8:45 am]

BILLING CODE 6717-01-P